DEPARTMENT OF ENERGY

Federal Energy Regulatory Commission

[Docket RP03-598-000]

Cotton Valley Compression, L.L.C.; Notice of Second Compressor Change Tariff, Rate, and Environmental Filing

September 10, 2003.

Take notice that on August 28, 2003, Cotton Valley Compression, L.L.C. (Cotton Valley), tendered for filing in Docket Nos. CP99-541-004 and RP03-598-000 a report

(1) describing the SECOND change of leased compressor units, (2) recomputing the stated rates to reflect the cost and capacity impacts of that compressor change, (3) replacing specific tariff sheets to reflect those revised rates and increased available capacity, and (4) satisfying environmental conditions attached to its original certificate of public convenience and necessity issued in 2000. 90 FERC & 61,206. Cotton Valley states that in that certificate besides authorizing Cotton Valley's 1,200 horsepower of installed leased compression with a capacity of 13,100 Dth/d, the Commission authorized it to operate leased compressors up to 3,000 horsepower with a capacity of up to 31,000 Dth/d, without further certification or abandonment for changes up or down within this upper level, subject to certain conditions.

Cotton Valley states that the following revised tariff sheets are being filed, with an effective date of September 29, 2003:

Second Revised Sheet No. 2 superceding First Revised Sheet No. 2

Second Revised Sheet No. 4 superceding First Revised Sheet No. 4

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 15, 2003.

Linda Mitry,
Acting Secretary

[FR Doc. 03-23612 Filed 9-15-03; 8:45 am]

BILLING CODE 6717-01-P